DEPARTMENT OF ENERGY

Federal Energy Regulatory Commission

Combined Notice of Filings #1

Take notice that the Commission received the following electric rate filings:

Docket Numbers: ER10-1626-013.

Applicants: Tenaska Virginia Partners, L.P.

Description: Notification of Change in Status of Tenaska Virginia Partners, L.P.

Filed Date: 7/9/20.

Accession Number: 20200709-5146.

Comments Due: 5 p.m. ET 7/30/20.

Docket Numbers: ER17-1609-004.

Applicants: Carroll County Energy LLC.

Description: Notification of Change in Status of Carroll County Energy LLC.

Filed Date: 7/9/20.

Accession Number: 20200709-5145.

Comments Due: 5 p.m. ET 7/30/20.

Docket Numbers: ER20-1718-001.

Applicants: New York Independent System Operator, Inc.

Description: Tariff Amendment: Response to deficiency letter re: Part A enhancements under BSM rules to be effective 9/8/2020.

Filed Date: 7/9/20.

Accession Number: 20200709-5135.

Comments Due: 5 p.m. ET 7/30/20.

Docket Numbers: ER20-1866-001.

Applicants: PJM Interconnection, L.L.C.

Description: Tariff Amendment: Amendment to ISA, SA No. 5660 and ICSA, SA No. 5661; Queue No. AC1-042 (amend) to be effective 4/20/2020.

Filed Date: 7/9/20.

Accession Number: 20200709-5139.

Comments Due: 5 p.m. ET 7/30/20.

Docket Numbers: ER20-1917-001.

Applicants: EF Oxnard LLC.

Description: Tariff Amendment: Deficiency filing under docket ER20-1917 to be effective 6/1/2020.

Filed Date: 7/8/20.

Accession Number: 20200708-5146.

Comments Due: 5 p.m. ET 7/29/20.

Docket Numbers: ER20-2350-000.

Applicants: PJM Interconnection, L.L.C.

Description: Compliance filing: Notice of Cancellation of ICSA, SA No. 1858; Queue No. P06 to be effective N/A.

Filed Date: 7/8/20.

Accession Number: 20200708-5135.

Comments Due: 5 p.m. ET 7/29/20.

Docket Numbers: ER20-2351-000.

Applicants: Tri-State Generation and Transmission Association, Inc.

Description: Section 205(d) Rate Filing: Amendment to Service Agreement No. 870 to be effective 7/2/2020.

Filed Date: 7/8/20.

Accession Number: 20200708-5140.

Comments Due: 5 p.m. ET 7/29/20.

Docket Numbers: ER20-2352-000.

Applicants: Midcontinent Independent System Operator, Inc.

Description: Compliance filing: 2020-07-09_SA 1972 GRE-OTP 4th Rev GIA (G645 G788) to be effective 7/6/2020.

Filed Date: 7/9/20.

Accession Number: 20200709-5002.

Comments Due: 5 p.m. ET 7/30/20.

Docket Numbers: ER20-2353-000.

Applicants: Midcontinent Independent System Operator, Inc.

Description: Compliance filing: 2020-07-09_SA 3510 OTP-GRE FSA (G788) to be effective 8/1/2020.

Filed Date: 7/9/20.

Accession Number: 20200709-5005.

Comments Due: 5 p.m. ET 7/30/20.

Docket Numbers: ER20-2354-000.

Applicants: Midcontinent Independent System Operator, Inc.

Description: Compliance filing: 2020-07-09_SA 3525 MDU-NSP FSA Twin Brooks-Ellendale (J436 and J437) to be effective 7/1/2020.

Filed Date: 7/9/20.

Accession Number: 20200709-5020.

Comments Due: 5 p.m. ET 7/30/20.

Docket Numbers: ER20-2355-000.

Applicants: Midcontinent Independent System Operator, Inc.

Description: Compliance filing: 2020-07-09_SA 3056 MDU-NSP MPFCA 1st Rev Ellendale (J436 and J437) to be effective 7/6/2020.

Filed Date: 7/9/20.

Accession Number: 20200709-5017.

Comments Due: 5 p.m. ET 7/30/20.

Docket Numbers: ER20-2356-000.

Applicants: PJM Interconnection, L.L.C.

Description: Tariff Cancellation: Notice of Cancellation of ISA, SA No. 2790 to be effective 9/17/2020.

Filed Date: 7/9/20.

Accession Number: 20200709-5066.

Comments Due: 5 p.m. ET 7/30/20.

Docket Numbers: ER20-2357-000.

Applicants: Alabama Power Company.

Description: Section 205(d) Rate Filing: Anniston Solar LGIA Filing to be effective 6/26/2020.

Filed Date: 7/9/20.

Accession Number: 20200709-5067.

Comments Due: 5 p.m. ET 7/30/20.

Docket Numbers: ER20-2358-000.

Applicants: PJM Interconnection, L.L.C.

Description: Tariff Cancellation: Notice of Cancellation of ISA, SA No. 4113; Queue No. T182 to be effective 9/20/2020.

Filed Date: 7/9/20.

Accession Number: 20200709-5074.

Comments Due: 5 p.m. ET 7/30/20.

Docket Numbers: ER20-2359-000.

Applicants: PJM Interconnection, L.L.C.

Description: Section 205(d) Rate Filing: Original ISA, SA No. 5697; Queue No. AF1-179 to be effective 6/11/2020.

Filed Date: 7/9/20.

Accession Number: 20200709-5116.

Comments Due: 5 p.m. ET 7/30/20.

Docket Numbers: ER20-2360-000.

Applicants: California Independent System Operator Corporation.

Description: Section 205(d) Rate Filing: 2020-07-09 Commitment Costs and Default Energy Bid Enhancements to be effective 12/31/9998.

Filed Date: 7/9/20.

Accession Number: 20200709-5132.

Comments Due: 5 p.m. ET 7/30/20.

Docket Numbers: ER20-2361-000.

Applicants: PJM Interconnection, L.L.C.

Description: Section 205(d) Rate Filing: Original ISA, Service Agreement No. 5683; Queue No. AF1-199 to be effective 6/11/2020.

Filed Date: 7/9/20.

Accession Number: 20200709-5141.

Comments Due: 5 p.m. ET 7/30/20.

Docket Numbers: ER20-2362-000.

Applicants: The Empire District Electric Company.

Description: Compliance filing: Compliance Filing—Amendment to Market-Based Rate Tariff to be effective 5/1/2020.

Filed Date: 7/9/20.

Accession Number: 20200709-5149.

Comments Due: 5 p.m. ET 7/30/20.

Docket Numbers: ER20-2363-000.

Applicants: PJM Interconnection, L.L.C.

Description: Section 205(d) Rate Filing: Original WMPA SA No. 5671; Queue No. AF1-058 to be effective 6/11/2020.

Filed Date: 7/9/20.

Accession Number: 20200709-5166.

Comments Due: 5 p.m. ET 7/30/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 9, 2020.
Nathaniel J. Davis, Sr.,
Deputy Secretary.

[FR Doc. 2020-15274 Filed 7-14-20; 8:45 am]

BILLING CODE 6717-01-P